DEPARTMENT OF THE TREASURY

Submission for OMB Review; Comment Request

August 23, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before September 29, 2010 to be assured of consideration.

Internal Revenue Service (IRS)

OMB Number: 1545-1270.

Type of Review: Extension without change to a currently approved collection.

Title: PS-66-93 (Final) Gasohol; Compressed Natural Gas; PS-120-90 (Final) Gasoline Excise Tax.

Abstract: PS-66-93 Buyers of compressed natural gas for a non taxable use must give a certificate. Persons who pay a “first tax” on gasoline must file a report. PS-120-90 Gasoline refiners, traders, terminal operators, chemical companies and gasohol blenders must notify each other of their registration status and/or intended use of product before transactions may be made tax-free.

Respondents: Private Sector: Businesses or other for-profits.

Estimated Total Burden Hours: 366 hours.

OMB Number: 1545-1338.

Type of Review: Extension without change to a currently approved collection.

Title: PS-103-90 (Final) (TD 8578) Election Out of Subchapter K for Producers of Natural Gas.

Abstract: This regulation contains certain requirements that must be met by co-producers of natural gas subject to a joint operating agreement in order to elect out of subchapter K of chapter 1 of the Internal Revenue Code. Under section 1.761-2(d)(5)(i), gas producers subject to gas balancing agreements on the regulation's effective date are to file Form 3115 and certain additional information to obtain the Commissioner's consent to a change in method of accounting to either of the two new permissible accounting methods in the regulations.

Respondents: Private Sector: Businesses or other for-profits.

Estimated Total Burden Hours: 5 hours.

OMB Number: 1545-2167.

Type of Review: Extension without change to a currently approved collection.

Title: Notice 2010-28, Stripping Transactions for Qualified Tax Credit Bonds.

Abstract: The IRS requires the information to ensure compliance with the tax credit bond credit coupon stripping requirements, including ensuring that no excess tax credit is taken by holders of bonds and coupons strips. The information is required in order to inform holders of qualified tax credit bonds whether the credit coupons relating to those bonds may be stripped as provided under § 54A(i). The respondents are issuers of tax credit bonds, including states and local governments and other eligible issuers.

Respondents: State, Local, and Tribal Governments.

Estimated Total Burden Hours: 1,000 hours.

Bureau Clearance Officer: R. Joseph Durbala, Internal Revenue Service, 1111 Constitution Avenue, NW., Room 6129, Washington, DC 20224; (202) 622-3634

OMB Reviewer: Shagufta Ahmed, Office of Management and Budget, New Executive Office Building, Room 10235, Washington, DC 20503; (202) 395-7873

Dawn D. Wolfgang,
Treasury PRA Clearance Officer.

[FR Doc. 2010-21356 Filed 8-27-10; 8:45 am]

BILLING CODE 4830-01-P